ENVIRONMENTAL PROTECTION AGENCY

[EPA-HQ-OECA-2012-0660; FRL-9532-1]

Agency Information Collection Activities; Submission to OMB for Review and Approval; Comment Request; NESHAP for Halogenated Solvent Cleaners/Halogenated Hazardous Air Pollutants (Renewal)

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before July 19, 2013.

ADDRESSES: Submit your comments, referencing docket ID number EPA-HQ-OECA-2012-0660, to: (1) EPA online, using www.regulations.gov (our preferred method), or by email to: docket.oeca@epa.gov, or by mail to: EPA Docket Center (EPA/DC), Environmental Protection Agency, Enforcement and Compliance Docket and Information Center, mail code 28221T, 1200 Pennsylvania Avenue NW., Washington, DC 20460; and (2) OMB at: Office of Information and Regulatory Affairs, Office of Management and Budget (OMB), Attention: Desk Officer for EPA, 725 17th Street NW., Washington, DC 20503.

FOR FURTHER INFORMATION CONTACT: Learia Williams, Monitoring, Assistance, and Media Programs Division, Office of Compliance, Mail Code 2227A, Environmental Protection Agency, 1200 Pennsylvania Avenue NW., Washington, DC 20460; telephone number: (202) 564-4113; fax number: (202) 564-0050; email address: williams.learia@epa.gov.

SUPPLEMENTARY INFORMATION: EPA has submitted the following ICR to OMB for review and approval according to the procedures prescribed in 5 CFR 1320.12. On October 17, 2012 (77 FR 63813), EPA sought comments on this ICR pursuant to 5 CFR 1320.8(d). EPA received no comments. Any additional comments on this ICR should be submitted to both EPA and OMB within 30 days of this notice.

EPA has established a public docket for this ICR under docket ID number EPA-HQ-OECA-2012-0660, which is available for either public viewing online at http://www.regulations.gov, or in person viewing at the Enforcement and Compliance Docket in the EPA Docket Center (EPA/DC), EPA West, Room 3334, 1301 Constitution Avenue NW., Washington, DC. The EPA Docket Center Public Reading Room is open from 8:30 a.m. to 4:30 p.m., Monday through Friday, excluding legal holidays. The telephone number for the Reading Room is (202) 566-1744, and the telephone number for the Enforcement and Compliance Docket is (202) 566-1752.

Use EPA's electronic docket and comment system at http://www.regulations.gov to either submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, Confidentiality of Business Information (CBI), or other information whose public disclosure is restricted by statute. For further information about the electronic docket, go to www.regulations.gov.

Title: NESHAP for Halogenated Solvent Cleaners/Halogenated Hazardous Air Pollutants (Renewal)

ICR Numbers: EPA ICR Number 1652.08, OMB Control Number 2060-0273

ICR Status: This ICR is scheduled to expire on June 30, 2013. Under OMB regulations, the Agency may continue to either conduct or sponsor the collection of information while this submission is pending at OMB.

Abstract: The affected entities are subject to the General Provisions of the NESHAP at 40 CFR part 63, subpart A, and any changes, or additions to the Provisions specified at 40 CFR part 63, subpart T.

Owners or operators of the affected facilities must submit initial notification, performance tests, and periodic reports and results. Owners or operators are also required to maintain records of the occurrence and duration of any startup, shutdown, or malfunction in the operation of an affected facility, or any period during which the monitoring system is inoperative. Reports are required semiannually at a minimum.

Respondents/Affected Entities: Halogenated solvent cleaners.

Estimated Number of Respondents: 1,431.

Frequency of Response: Initially, occasionally, quarterly, semiannually, and annually.

Estimated Total Annual Hour Burden: 45,242.

Estimated Total Annual Cost: $5,395,561, which includes $4,380,761 in labor costs, no capital/startup costs, and $1,014,800 in operation and maintenance (O&M) costs.

Changes in the Estimates: There is an apparent increase in burden hours for the respondent and the Agency as compared to the previous ICR due to burden calculation revisions. The calculations presented in the previous ICR assumed that total respondent hours per year associated with each burden item included technical, managerial, and clerical labor. The previous ICR calculated technical, managerial, and clerical labor hours as being 85, 5, and 10 percent, respectively, of the total hours. To be consistent with the estimation methodology used in other ICRs, this ICR considers total respondent hours to include only technical labor, and that managerial and clerical hours account for an additional 5 and 10 percent, respectively, of those technical labor hours. Additionally, there is an adjustment increase in the respondent labor estimates associated with semiannual and quarterly reporting. The previous ICR estimated labor burdens for one semiannual report and three quarterly reports per year. We have revised the calculations to account for the burden associated with two semiannual and four quarterly reports per year.

John Moses,
Director, Collection Strategies Division.

[FR Doc. 2013-14485 Filed 6-18-13; 8:45 am]

BILLING CODE 6560-50-P